DEPARTMENT OF STATE

[Public Notice 6076]

Advisory Committee on Transformational Diplomacy Notice of Report Finalization and Submission

The Department of State announces that the Secretary of State's Advisory Committee on Transformational Diplomacy (“Committee”) will submit its report of recommendations on Tuesday, January 29, 2008, from 1:15 p.m. to 1:45 p.m., at the Department of State, 2201 C Street, Washington, DC in the Treaty Room. This event will not be a meeting of the Committee.

The Committee is composed of persons from the private sector and academia who provide advice on the Department's worldwide management operations, including structuring, leading and managing large global enterprises, communicating governmental missions and policies to relevant publics, and better use of information technology. The report is comprised of committee findings and recommendations to the Department that support transformational diplomacy in the areas including budgets, integration of foreign affairs and national security efforts, personnel recruiting and fortification, public private partnerships, upgrades to technological infrastructure, as well as tracking and measuring efforts. The report will be available to the public at http://fido.gov/facadatabase/ This presentation will be open to the public as capacity allows.

Entry to the building is controlled and will be facilitated by advance clearance. Members of the public (including government employees and Department of State employees) who wish to attend the event should provide by no later than January 28, 2008, their name; date of birth; citizenship (country); ID number from one of the following—Driver's License Number and State of issue; Passport Number; U.S. Government ID; U.S. Military ID; as well as their professional affiliation, address and telephone number to the office of the Executive Director of the Committee at 202-647-2652 or fax to 202-647-2529.

One of the following valid photo IDs will be required for admittance to the State Department building: U.S. driver's license, U.S. passport, or U.S. Government Agency ID. Members of the public must use the “C” Street entrance, after going through the exterior screening facilities. Members of the public will be escorted to the event and therefore should arrive in time to be cleared into the building no later than 12:45 p.m. For additional information, contact the Office of the Executive Director of the Committee, Henrietta Holsman Fore, 202-647-2652.

Dated: January 24, 2008.
Henrietta H. Fore,
Executive Director and Director of Foreign Assistance, Department of State.

[FR Doc. E8-1671 Filed 1-29-08; 8:45 am]

BILLING CODE 4710-02-P